ENVIRONMENTAL PROTECTION AGENCY

40 CFR Parts 721, 795, and 799

[EPA-HQ-OPPT-2010-1039; FRL-9350-8]

RIN 2070-AJ08

Certain Polybrominated Diphenylethers; Significant New Use Rule and Test Rule; Extension of Comment Period

AGENCY: Environmental Protection Agency (EPA).

ACTION: Proposed rule; extension of comment period.

SUMMARY: EPA issued a proposed rule in the Federal Register of April 2, 2012, that would amend the Toxic Substances Control Act (TSCA) section 5(a) Significant New Use Rule (SNUR) for certain polybrominated diphenylethers (PBDEs), and that would require persons that manufacture, import, or process any of three commercial PBDEs, including in articles, for any use after December 31, 2013, to conduct testing under TSCA section 4(a). This document extends the comment period for 60 days, from June 1, 2012 to July 31, 2012.

DATES: Comments, identified by docket identification (ID) number EPA-HQ-OPPT-2010-1039 must be received on or before July 31, 2012.

ADDRESSES: Follow the detailed instructions as provided under ADDRESSES in the Federal Register document of April 2, 2012.

FOR FURTHER INFORMATION CONTACT: For technical information contact: Catherine Roman, Chemical Control Division, Office of Pollution Prevention and Toxics, Environmental Protection Agency, 1200 Pennsylvania Ave., NW., Washington, DC 20460-0001; telephone number: 202-564-8172; email address: roman.catherine@epa.gov. For general information contact: The TSCA-Hotline, ABVI-Goodwill, 422 South Clinton Ave., Rochester, NY 14620; telephone number: (202) 554-1404; email address: TSCA-Hotline@epa.gov.

SUPPLEMENTARY INFORMATION:

This document extends the public comment period established in the Federal Register of April 2, 2012 (77 FR 19862) (FRL-8889-3). In that document, EPA issued a proposed rule that would amend the Toxic Substances Control Act (TSCA) section 5(a) Significant New Use Rule (SNUR) for certain polybrominated diphenylethers (PBDEs). That document also proposed a test rule under TSCA section 4(a) that would require any person who manufactures, imports, or processes any of three commercial PBDEs, including in articles, for any use after December 31, 2013, to conduct testing on their effects on health and the environment. The comment period is being extended in response to requests from the Aerospace Industries Association (AIA), Airlines for America (A4A), and the International Air Transport Association (IATA). EPA is hereby extending the comment period, which was set to end on June 1, 2012, to July 31, 2012. To submit comments, or access the docket, please follow the detailed instructions as provided under ADDRESSES in the April 2, 2012 Federal Register document. If you have questions, consult the technical person listed under FOR FURTHER INFORMATION CONTACT.

List of Subjects

40 CFR Part 721

Environmental protection, Chemicals, Hazardous substances, Premanufacture notification, Reporting and recordkeeping requirements.

40 CFR Part 795

Environmental protection, Chemicals, Hazardous substances, Health, Laboratories, Reporting and recordkeeping requirements.

40 CFR Part 799

Environmental protection, Chemicals, Hazardous substances, Laboratories, Reporting and recordkeeping requirements.

Dated: May 18, 2012.
James Jones,
Acting Assistant Administrator, Office of Chemical Safety and Pollution Prevention.

[FR Doc. 2012-12625 Filed 5-23-12; 8:45 am]

BILLING CODE 6560-50-P